DEPARTMENT OF TRANSPORTATION

Federal Aviation Administration

Notice of Intent To Prepare an Environmental Assessment and Request for Public Scoping Comments for the Air Tour Management Plan Program at Death Valley National Park

AGENCY: Federal Aviation Administration (FAA).

ACTION: Notice of intent to prepare an Environmental Assessment and to request Public Scoping comments.

SUMMARY: The FAA, with NPS as a cooperating agency, has initiated development of an Air Tour Management Plan (ATMP) for Death Valley National Park (DEVA), pursuant to the National Parks Air Tour Management Act of 2000 (Public Law 106-181) and its implementing regulations (14 CFR Part 136, Subpart B, National Parks Air Tour Management). The objective of the ATMIP is to develop acceptable and effective measures to mitigate or prevent the significant adverse impacts, if any, of commercial air tour operations upon the natural resources, cultural resources, and visitor experiences of a national park unit and any tribal lands within or abutting the park. It should be noted that the ATMP has no authorization over other non-air-tour operations such as military and general aviation operations. In compliance with the National Environmental Policy Act of 1969 (NEPA) and FAA Order 1050.1E, an Environmental Assessment is being prepared.

The ATMP will be prepared using an Aviation Rulemaking Committee (ARC) process, as authorized under 49 U.S.C. 106. The purpose of using the ARC process is to provide early advice, information, and recommendations from interested stakeholders to the FAA and NPS, regarding environmental and other issues to consider in the development of an ATMP. The DEVA ARC is composed of various representatives including air tour operators, federal, local and regional agencies, environmental organizations, local businesses, and the Timbisha Shoshone tribe. It is chaired by the Superintendent of Death Valley National Park.

In June 2009, the ARC held a two-day kickoff meeting at DEVA; minutes may be found at: http://www.faa.gov/about/office_org/headquarters_offices/arc/programs/air_tourmanagement_plan/park_specific_plans/Death_Valley.cfm.

The purpose of the kickoff meeting was for stakeholders to have the opportunity to provide advice, information, and recommendations to the FAA and NPS regarding environmental and other issues to consider in the development of an ATMP. Materials presented at the meeting included information on: Park resources; the acoustical environment at DEVA; military operations over DEVA and the surrounding areas; current and historical air tour operations; and, a map of current air tour flight paths. Comments were received from members of the ARC regarding sensitive park resources, tribal concerns, changes in tourism patterns, and air tour operations. After a generalized map of current air tour flight paths was presented, ARC members made suggestions regarding options for an air tour flight track that would consolidate flight paths and modify elevations and flight locations. ARC members' recommendations attempted to address the concerns raised at the meeting. Refer to the Public Scoping Document (mentioned below) to see how these suggestions are incorporated into an air tour route.

Based on input received at the meeting, the FAA and NPS have decided to proceed with ATMP development at DEVA via the ARC process. The FAA is now inviting the public, agencies, and other interested parties to provide comments, suggestions, and input on the scope of issues and the identification of significant issues regarding commercial air tours and their potential impacts on natural, cultural, and historical resources. Input is also welcome on other areas to be addressed in the environmental process, such as past, present, and future actions (which, when considered with ATMIP alternatives, may result in potentially significant cumulative impacts), and potential ATMP alternatives.

DATES: By this notice, the FAA is requesting comments on the scope of the environmental assessment for the ATMP at Death Valley National Park. Comments must be submitted by February 18, 2010.

FOR FURTHER INFORMATION CONTACT: Keith Lusk—Mailing address: P.O. Box 92007, Los Angeles, California 90009-2007. Telephone: (310) 725-3808. Street address: 15000 Aviation Boulevard, Lawndale, California 90261. E-mail: Keith.Lusk@faa.gov. Written comments on the scope of the Environmental Assessment should be submitted electronically via the electronic public comment form on the NPS Planning, Environment and Public Comment System at: http://parkplanning.nps.gov/projectHome.cfm?parkId=297&projectId=27781, or sent to the mailing address or e-mail address above.

SUPPLEMENTARY INFORMATION: A Public Scoping Document that describes the project in greater detail is available at:

• The NPS Planning, Environment and Public Comment System at: http://parkplanning.nps.gov/projectHome.cfm?parkId=297&projectId=27781

• http://www.faa.gov/about/office_org/headquarters_offices/arc/programs/air_tourmanagement_plan/park_specific_plans/Death_Valley.cfm

• The following locations within Death Valley National Park: Furnace Creek Visitor Center & Museum, Stovepipe Wells Ranger Station, Scotty's Castle

• Shoshone Museum, Shoshone, CA

• Eastern Sierra Interagency Center, Highway 395 and Highway 136, Lone Pine, CA

• Beatty Library District, 400 North 4th Street, Beatty, NV

• Inyo County Free Library: 168 North Edwards Street, Independence, CA; 210 Academy Street and 110 North Main Street in Bishop, CA

• Pahrump Community Library: 701 East Street, Pahrump, NV

• Amargosa Valley Library: 829 East Farm Road, Amargosa Valley, NV

Notice Regarding FOIA: Individuals may request that their name and/or address be withheld from public disclosure. If you wish to do this, you must state this prominently at the beginning of your conmient. Commentators using the Web site can make such a request by checking the box “keep my contact information private.” Such requests will be honored to the extent allowable by law, but you should be aware that pursuant to the Freedom of Information Act, your name and address may be disclosed. We will make all submissions from organizations, businesses, and from individuals identifying themselves as representatives or officials of organizations or businesses available for public inspection in their entirety.

Issued in Hawthorne, CA, on January 7, 2010.
Barry Brayer,
Manager, Special Programs Staff, Western-Pacific Region.

[FR Doc. 2010-685 Filed 1-15-10; 8:45 am]

BILLING CODE M